DEPARTMENT OF COMMERCE

National Oceanic and Atmospheric Administration

[Docket No.: 100630282-0522-03]

RIN 0648-ZC18

Availability of Grants Funds for Fiscal Year 2011

AGENCY: National Oceanic and Atmospheric Administration (NOAA), Department of Commerce (DOC).

ACTION: Notice.

SUMMARY: NOAA publishes this notice to extend the final application solicitation period for the Fiscal Year 2011 CRCP International Coral Reef Conservation Cooperative Agreements. The original solicitation, which was announced in the Federal Register on July 16, 2010, gave an incorrect final application due date of February 21, 2011. This notice corrects that error by extending the final application period for this program until February 22, 2011. As the original announcement states, final applications will be accepted ONLY from those pre-applicants who are invited to submit a final application.

DATES: Final applications must be submitted no later than 5 p.m., Eastern Standard Time, Tuesday, February 22, 2011.

ADDRESSES: Final applications will be accepted only from those applicants who are invited to submit a final application. The applicant may submit the final application (narratives, federal forms, and supporting documentation) in one of two ways: Applications must be submitted through http://www.grants.gov, unless an applicant does not have internet access. In that case, hard copies with original signatures and scanned copies on a CD must be postmarked by 5 p.m., U.S. Eastern Standard Time, on February 22, 2011 and sent to: Scot Frew, NOAA/NOS International Program Office, 1315 East West Highway, 5th Floor, N/IP, Room 5826, Silver Spring, MD 20910. Late final applications by any method cannot be accepted under any circumstances.

FOR FURTHER INFORMATION CONTACT: For administrative or technical issues, contact Scot Frew at 301-713-3078 x220 or by e-mail at Scot.Frew@noaa.gov.

SUPPLEMENTARY INFORMATION: NOAA publishes this notice to extend the final application solicitation period for the Fiscal Year 2011 CRCP International Coral Reef Conservation Cooperative Agreements Program announced in the Federal Register on July 16, 2010 (75 FR 41662). The new deadline for final applications is February 22, 2011. The program extends the solicitation period due to a typo made in the deadline date published in the original announcement.

Limitation of Liability

In no event will NOAA or the Department of Commerce be responsible for proposal preparation costs if this program is cancelled because of other agency priorities. Publication of this announcement does not oblige NOAA to award any specific project or to obligate any available funds. Applicants are hereby given notice that funding for the Fiscal Year 2011 program is contingent upon the availability of Fiscal Year 2011 appropriations.

Universal Identifier

Applicants should be aware they are required to provide a Dun and Bradstreet Data Universal Numbering System (DUNS) number during the application process. See the October 30, 2002, Federal Register, (67 FR 66177) for additional information. Organizations can receive a DUNS number at no cost by calling the dedicated toll-free DUNS Number request line at 1-866-705-5711 or via the Internet at http://www.dunandbradstreet.com.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-award Notification Requirements for Grants and Cooperative Agreements contained in the Federal Register notice of October 1, 2001 (66 FR 49917), as amended by the Federal Register notice published on: October 30, 2002 (67 FR 66109); December 30, 2004 (69 FR 78389); and February 11, 2008 (73 FR 7696) are applicable to this solicitation.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: October 27, 2010.
Christopher C. Cartwright,
Associate Assistant Administrator for Management and CFO/CAO, Ocean Services and Coastal Zone Management.

[FR Doc. 2010-27702 Filed 11-2-10; 8:45 am]

BILLING CODE 3510-08-P